DEPARTMENT OF HEALTH AND HUMAN SERVICES

Centers for Medicare & Medicaid Services

[Document Identifier: CMS-R-284 and CMS-10190]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension without change of a currently approved collection; Title of Information Collection: Medicaid Statistical Information System; Use: State data are reported by the Federally mandated electronic process, known as (MSIS) Medical Statistical Information System. These data are the basis of actuarial forecasts for Medicaid service utilization and costs; of analysis and cost savings estimates required for legislative initiatives relating to Medicaid and for responding to requests for information from CMS components, the Department, Congress and other customers.

Form Number: CMS-R-284 (OMB#: 0938-0345); Frequency: Reporting—Quarterly; Affected Public: State, Local, or Tribal Governments; Number of Respondents: 51; Total Annual Responses: 204; Total Annual Hours: 2,040. (For policy questions regarding this collection contact Denise Franz 410-786-6117. For all other issues call 410-786-1326.)

2. Type of Information Collection Request: Extension of a currently approved collection; Title of Information Collection: Section 1901 of the Act (42 U.S.C. 1396) requires that States must establish a State plan for medical assistance that are approved by the Secretary to carry out the purposes of title XIX. The DRA provides States with numerous flexibilities in operating their State Medicaid programs. The intent of these flexibilities is to provide States with program alternatives that allow them to provide the most appropriate health care coverage that meets beneficiary needs, while at the same time curtailing State and Federal spending. Except for the documentation of citizenship requirements, States can submit SPAs to CMS to effectuate these changes to their Medicaid programs. CMS provided State Medicaid Directors letters providing guidance on these provisions and the implementation of the DRA and associated SPA templates for use by States to modify their Medicaid State plans if they choose to implement these flexibilities. Under this process, the end result is the State burden will be reduced significantly. To implement these flexibilities, a collection of information to effectuate these changes is required. Therefore, State Medicaid agencies will complete the templates to effectuate the changes. CMS will review the information to determine if the State has met all of the requirements of the DRA provisions the States choose to implement. If the requirements are met, CMS will approve the amendments to the State's Title XIX plan giving the State the authority to implement the flexibilities. For a State to receive Medicaid Title XIX funding, there must be an approved Title XIX State plan. Five templates were created to assist States in effectuating these flexibilities through modifications to the State plan. The Children's Health Insurance Program Reauthorization Act (CHIPRA) of 2009, enacted on February 4, 2009, corrected language in section 6044 (Alternative Benefit Packages) of the DRA as if these amendments were included in the DRA, and subsequently amended section 1937 “State Flexibility for Medicaid Benefit Packages.” We have modified the preprints to reflect these statutory changes. Form Number: CMS-10190 (OMB#: 0938-0993); Frequency: Reporting—Yearly; Affected Public: State, Local, or Tribal Governments; Number of Respondents: 56; Total Annual Responses: 16; Total Annual Hours: 699. (For policy questions regarding this collection contact Fran Crystal at 410-786-1195. For all other issues call 410-786-1326.)

To obtain copies of the supporting statement and any related forms for the proposed paperwork collections referenced above, access CMS' Web Site at http://www.cms.hhs.gov/PaperworkReductionActof1995, or E-mail your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by October 13, 2009:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number (CMS-R-284 and CMS-10190), Room C4-26-05, 7500 Security Boulevard, Baltimore, Maryland 21244-1850.

Dated: August 7, 2009.
Michelle Shortt,
Director, Regulations Development Group, Office of Strategic Operations and Regulatory Affairs.

[FR Doc. E9-19539 Filed 8-13-09; 8:45 am]

BILLING CODE 4120-01-P